DEPARTMENT OF COMMERCE

National Oceanic and Atmospheric Administration

RIN 0648-XG604

Fisheries of the South Atlantic and Gulf of Mexico; South Atlantic Fishery Management Council and Gulf of Mexico Fishery Management Council; Public Meeting

AGENCY: National Marine Fisheries Service (NMFS), National Oceanic and Atmospheric Administration (NOAA), Commerce.

ACTION: Notice of a joint meeting of the South Atlantic Fishery Management Council (SAFMC) and Gulf of Mexico Fishery Management Council (GMFMC) Scientific and Statistical Committee's Scamp Assessment Plan Review subgroup (SSC).

SUMMARY: The Councils will hold a meeting of a subgroup of their SSC's via webinar to review planning documents for the Scamp stock assessment. See SUPPLEMENTARY INFORMATION.

DATES: The SSC subgroup will meet from 1 p.m. to 3 p.m., Tuesday, November 27, 2018.

ADDRESSES: The meeting will be held via webinar. The webinar is open to members of the public. Those interested in participating should contact Mike Errigo at SAFMC or John Froeschke at GMFMC (see FOR FURTHER INFORMATION CONTACT below) at least 24 hours in advance to request webinar access information.

Council address: South Atlantic Fishery Management Council, 4055 Faber Place Drive, Suite 201, N. Charleston, SC 29405. Gulf of Mexico Fishery Management Council, 4107 West Spruce Street, Suite 200, Tampa, FL 33607.

FOR FURTHER INFORMATION CONTACT: Mike Errigo, SAFMC, 4055 Faber Place Drive, Suite 201, North Charleston, SC 29405; phone: (843) 571-4366 or toll free (866) SAFMC-10; fax: (843) 769-4520; email: mike.errigo@safmc.net. John Froeschke, GMFMC, 4107 West Spruce Street, Suite 200, Tampa, FL 33607; phone: (813) 348-1844 or toll free (888) 833-1844; fax: (813) 348-1711. john.froeschke@gulfcouncil.org.

SUPPLEMENTARY INFORMATION: The purpose of this meeting is to provide SSC review of planning documents for an assessment of Scamp in the Southeast US. This will be a joint assessment of the Gulf and South Atlantic management units conducted through the Southeast Data, Assessment, and Review Program (SEDAR) Research Track Assessment Process. The GMFMC and SAFMC agreed to conduct this review of the Scamp assessment schedule and Terms of Reference using a sub-group of their SSC's through a joint meeting to efficiently develop recommendations of both SSCs.

Items To Be Discussed at This Meeting

1. Review and comment on the Scamp Research Track Terms of Reference.

2. Review and comment on the Scamp Research Track project schedule.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the SAFMC office. Written comment to be considered by the SSC shall be provided to the SAFMC not later than 12:00 p.m. Tuesday, November 13, 2018.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: November 5, 2018.
Tracey L. Thompson,
Acting Deputy Director, Office of Sustainable Fisheries, National Marine Fisheries Service.

[FR Doc. 2018-24436 Filed 11-7-18; 8:45 am]

BILLING CODE 3510-22-P